DEPARTMENT OF COMMERCE

National Oceanic and Atmospheric Administration

[RTID 0648-XE077]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Summer Flounder, Scup, and Black Sea Bass Monitoring Committee will hold a public webinar meeting.

DATES: The meeting will be held on Thursday, August 1, 2024, from 9 a.m. until 1 p.m. For agenda details, see SUPPLEMENTARY INFORMATION.

ADDRESSES: The meeting will be held via webinar. Connection information will be posted at www.mafmc.org prior to the meeting.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Summer Flounder, Scup, and Black Sea Bass Monitoring Committee will meet via webinar to discuss management measures for all three species. The objectives of this meeting are for the Monitoring Committee to: (1) Review recent stock assessment information, fishery performance, and recommendations from the Advisory Panel, Scientific and Statistical Committee, and staff; (2) Recommend 2025 commercial and recreational annual catch limits, annual catch targets, commercial quotas, and recreational harvest limits for black sea bass; (3) review previously specified 2025 catch and landings limits for summer flounder and scup, and recommend changes if warranted; (4) Review commercial management measures for all three species and recommend changes if needed; and (5) receive an update on the framework action/addendum to modify the commercial summer flounder mesh exemption programs. Meeting materials will be posted to www.mafmc.org.

Special Accommodations

The meeting is physically accessible to people with disabilities. Requests for sign language interpretation or other auxiliary aid should be directed to Shelley Spedden, (302) 526-5251, at least 5 days prior to the meeting date.

Authority: 16 U.S.C. 1801 et seq.

Dated: July 3, 2024.
Rey Israel Marquez,
Acting Deputy Director, Office of Sustainable Fisheries, National Marine Fisheries Service.

[FR Doc. 2024-15000 Filed 7-8-24; 8:45 am]

BILLING CODE 3510-22-P